ENVIRONMENTAL PROTECTION AGENCY

[FRL 13093-01-OA]

Farm, Ranch, and Rural Communities Advisory Committee (FRRCC); Notice of Charter Renewal

AGENCY: Environmental Protection Agency (EPA).

ACTION: Notice.

SUMMARY: Notice is hereby given that the Environmental Protection Agency (EPA) has determined that, in accordance with the provisions of the Federal Advisory Committee Act (FACA), the Farm, Ranch, and Rural Communities Advisory Committee (FRRCC) is in the public interest and supports EPA in performing its duties and responsibilities. Accordingly, the FRRCC will be renewed for an additional two-year period. The purpose of the FRRCC is to provide advice and recommendations to the EPA Administrator on environmental issues and policies that are of importance to agriculture and rural communities. Inquiries may be directed to Susan Park, Deputy Associate Administrator for Strategic Initiatives, Office of External Affairs, U.S. EPA, 1200 Pennsylvania Avenue NW, Washington, DC 20460, or FRRCC@epa.gov.

Dated: November 20, 2025.
Henry Turner Bridgforth,
Senior Advisor for Agriculture and Rural Affairs.

[FR Doc. 2025-22561 Filed 12-10-25; 8:45 am]

BILLING CODE 6560-50-P